DEPARTMENT OF STATE

[Public Notice: 7724]

60-Day Notice of Proposed Information Collection: Form DS-3097, Exchange Visitor Program Annual Report, and OMB Control Number 1405-0151

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Exchange Visitor Program Annual Report.

• OMB Control Number: 1405-0151.

• Type of Request: Extension of a Currently Approved Collection.

• Originating Office: Bureau of Educational and Cultural Affairs, Office of Private Sector Exchange, ECA/EC.

• Form Number: Form DS-3097.

• Respondents: Designated J-1 program sponsors.

• Estimated Number of Respondents: 1,435.

• Estimated Number of Responses: 1,435 annually.

• Average Hours per Response: 2 hours.

• Total Estimated Burden: 2,870 hours.

• Frequency: Annually.

• Obligation to Respond: Mandatory.

DATES: The Department will accept comments from the public up to 60 days from December 13, 2011.

ADDRESSES: You may submit comments by any of the following methods:

• Persons with access to the Internet may view and comment on this notice by going to the regulations.gov Web site at http://www.regulations.gov/#!home. You can search by selecting “Notice” under Document Type, enter the Public Notice number, and check “Open for Comment”. Search, and then to view the document, select an Agency.

• Email: JExchanges@State.gov.

• Mail (paper, disk, or CD-ROM submissions): U.S. Department of State, ECA/EC/D, SA-5, Floor 5, 2200 C Street NW., Washington, DC 20522-0505, ATTN: Federal Register Notice Response.

You must include the DS form number (if applicable), information collection title, and OMB control number in any correspondence.

FOR FURTHER INFORMATION CONTACT: Direct requests for additional information regarding the collection listed in this notice, including requests for copies of the proposed information collection and supporting documents, to Rick A. Ruth, Deputy Assistant Secretary for Private Sector Exchange, Acting, ECA/EC, SA-5, Floor 5, Department of State, 2200 C Street NW., Washington, DC 20522-0505, who may be reached on (202) 632-2805 or at JExchanges@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Annual reports from designated program sponsors assist the Department in oversight and administration of the J-1 visa program. The reports provide statistical data on the number of exchange participants an organization sponsored per category of exchange. The reports also provide a summary of the activities in which exchange visitors were engaged and an evaluation of program effectiveness. Program sponsors include government agencies, academic institutions, and private sector not-for-profit and for-profit entities.

Methodology

Annual reports are completed through the Student and Exchange Visitor Information System (SEVIS) and then printed and signed by a sponsor official, and sent to the Department by mail or fax. The Department is currently working with the Department of Homeland Security to expand SEVIS functions and enable the collection of electronic signatures. Annual reports will be submitted to the Department electronically as soon as the mechanism for doing so is approved and in place during the implementation of SEVIS II.

Dated: December 6. 2011.
Rick A. Ruth,
Deputy Assistant Secretary for Private Sector Exchange, Acting, Bureau of Educational and Cultural Exchange, Department of State.

[FR Doc. 2011-31963 Filed 12-12-11; 8:45 am]

BILLING CODE 4710-05-P